DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before January 18, 2022.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety, General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on December 7, 2021.
Donald P. Burger,
Chief, General Approvals and Permits Branch.

Special Permits Data
Application No. | Applicant | Regulation(s) affected | Nature of the special permits thereof
21302-N | Taylor-Wharton Malaysia Sdn. Bhd | 173.316 | To authorize the manufacture, mark, sale, and use of a specification DOT 4L cylinder for the transportation in commerce of the methane, refrigerated liquid. (mode 1)
21304-N | Freewire Technologies, Inc | 172.101(j), 173.24(e)(4) | To authorize the transportation in commerce of lithium batteries contained in equipment, that exceed 35 kg net weight, by cargo-only aircraft. (mode 4)
21305-N | Cyanco International, LLC | 180.605(e) | To authorize the transportation in commerce of portable tanks that are ultrasonically examined rather than visually inspected during periodic inspection. (modes 1, 2, 3)
21307-N | Packaging and Crating Technologies, LLC | 172.200, 172.300, 172.400, 172.700(a) | To authorize the manufacture, mark, sale and use of packaging for purposes of “offering or reoffering” lithium batteries for recycling, reuse, refurbishment, repurposing or evaluation without requiring shipping papers, marks, labels, or training. (modes 1, 2)
21308-N | Micropore, Inc | 173.240(d) | To authorize the transportation in commerce of lithium hydroxide in non-DOT specification packaging by ground transport. (mode 1)
21309-N | Construction Helicopters, Inc | 172.101(j), 173.27(b)(2) | To authorize the transportation in commerce of Division 1.1, 1.2, 1.3 and 1.4 explosives that are not permitted for transportation aboard cargo-only aircraft or are in quantities greater than those prescribed for transportation aboard cargo-only aircraft. (mode 4)
21310-N | Bolloré Logistics Germany Gmbh | 172.101(j), 173.301(f), 173.302a(a)(1), 173.304a(a)(2) | To authorize the transportation in commerce of certain Division 2.2 liquefied or compressed gases in non-specification packages for use in cooling applications for spacecraft and/or satellites. (modes 1, 4)
21311-N | Spaceflight, Inc | 173.185(e)(3) | To authorize the transportation in commerce of prototype lithium batteries contained in equipment by motor vehicle. (mode 1)
21312-N | Moxion Power Co | 172.102 | To authorize the transportation in commerce of lithium batteries installed in a cargo transport unit. (mode 1)
21313-N | Federal Express Corporation |  | To authorize the transportation in commerce of hazardous materials aboard small aircraft that exceed the maximum take-off weight for small aircraft. (mode 4)
21314-N | Samsung SDI America, Inc | 172.101(j) | To authorize the transportation in commerce of lithium batteries exceeding 35 kg by cargo-only aircraft. (mode 4)

[FR Doc. 2021-27182 Filed 12-15-21; 8:45 am]

BILLING CODE 4909-60-P